DEPARTMENT OF TRANSPORTATION

Maritime Administration

Marine Transportation System National Advisory Council

ACTION: National Advisory Council public meeting.

SUMMARY: The Maritime Administration announces that the Marine Transportation System (MTS) National Advisory Council (MTSNAC) will hold a meeting to discuss SEA-21 and other MTS related issues. A public comment period is scheduled for 9 a.m.—9:30 a.m. on Wednesday, August 14, 2002. To provide time for as many people to speak as possible, speaking time for each individual will be limited to three minutes. Members of the public who would like to speak are asked to contact Raymond Barberesi by August 6, 2002. Mr. Barberesi can be reached at: telephone (202) 366-4357, fax (202) 366-6988, or e-mail Raymond.Barberesi@marad.dot.gov. Commenters will be placed on the agenda in the order in which notifications are received. If time allows, additional comments will be permitted. Copies of oral comments must be submitted in writing at the meeting. Additional written comments are welcome and must be filed by August 21, 2002. Send comments to the attention of Mr. Raymond Barberesi, Director, Office of Ports and Domestic Shipping, U.S. Maritime Administration, 400 7th Street, SW., Room 7201, Washington, DC 20590.

DATES: The meeting will be held on Tuesday, August 13, 2002, from 2:30 p.m. to 5:30 p.m. and Wednesday, August 14, 2002, from 8:30 a.m. to 3 p.m.

ADDRESSES: The meeting will be held at the Hyatt Regency Long Beach Hotel, 200 South Pine Avenue, Long Beach, California 90802.

For further information contact: Raymond Barberesi, (202) 366-4357; Maritime Administration, MAR-830, Room 7201, 400 Seventh St., SW., Washington, DC 20590; Raymond.Barberesi@marad.dot.gov.

(Authority: 5 U.S.C. App 2, Sec. 9(a)(2); 41 CFR part 102-3 DOT Order 1120.3B)

Dated: July 22, 2002.
Joel C. Richard,
Secretary, Maritime Administration.

[FR Doc. 02-18853 Filed 7-24-02; 8:45 am]

BILLING CODE 4910-81-P